DEPARTMENT OF THE INTERIOR

National Park Service

Notice of Inventory Completion for Native American Human Remains and Associated Funerary Objects in the Possession of the Nevada State Museum, Carson City, NV

AGENCY: National Park Service, Interior.

ACTION: Notice.

Notice is hereby given in accordance with provisions of the Native American Graves Protection and Repatriation Act (NAGPRA), 43 CFR 10.9, of the completion of an inventory of human remains and associated funerary objects in the possession of the Nevada State Museum, Carson City, NV.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Nevada State Museum professional staff in consultation with Vernadine McLain, NAGPRA coordinator for the Walker River Paiute Tribe of the Walker River Reservation, Nevada.

In the 1970s, human remains representing one individual were exposed during earthmoving activities near Schurz, NV. These remains were removed by an unidentified Nevada State Museum staff member and donated to the museum at the same time. No known individual was identified. No associated funerary objects are present.

The remains have been radiocarbon-dated to 310 years before the present time. This date and characteristics of the cranial morphology provide the basis for determination of the individual as a Native American. Schurz, NV, is within the known historic territory of the Walker River Paiute Tribe of the Walker River Reservation, Nevada. Both tribal oral history and historic evidence document that this Native American group has occupied the Walker Lake area since before the time of European contact. On the basis of osteology, date, oral history, and historical evidence, these remains are determined to be affiliated with the Walker River Paiute Tribe of the Walker River Reservation, Nevada.

Based on the above-mentioned information, officials of the Nevada State Museum have determined that, pursuant to 43 CFR 10.2 (d)(1), the human remains listed above represent the physical remains of one individual of Native American ancestry. Officials of the Nevada State Museum also have determined that, pursuant to 43 CFR 10.2 (e), there is a relationship of shared group identity that can be reasonably traced between these Native American human remains and the Walker River Paiute Tribe of the Walker River Reservation, Nevada.

This notice has been sent to officials of the Walker River Paiute Tribe of the Walker River Reservation, Nevada. Representatives of any other Indian tribe that believes itself to be culturally affiliated with these human remains should contact Dr. Alanah Woody, Nevada Division of Museums and History NAGPRA Coordinator, 600 North Carson Street, Carson City, NV 89701, telephone (775) 687-4810, extension 229, before May 14, 2001. Repatriation of the human remains to the Walker River Paiute Tribe of the Walker River Reservation, Nevada may begin after that date if no additional claimants come forward.

Dated: March 28, 2001.
John Robbins,
Assistant Director, Cultural Resources Stewardship and Partnerships.

[FR Doc. 01-8989 Filed 4-11-01; 8:45 am]

BILLING CODE 4310-70-F